DEPARTMENT OF HEALTH AND HUMAN SERVICES

Office of the Secretary

Office of the Assistant Secretary for Public Health Emergency Preparedness; Statement of Organization, Function, and Delegation of Authority

Part A, Office of the Secretary, Statement of Organization, Functions, and Delegations of Authority of the Department of Health and Human Services (HHS) is being amended at Chapter AA, Immediate Office of the Secretary, as last amended at 67 FR 1980, dated 1/15/2002; and at Chapter AC, “Office of Public Health and Science (OPHS),” as last amended at 62 FR 33081-82, dated 6/18/1997. This reorganization will establish a new Chapter (AN), “Office of the Assistant Secretary for Public Health Emergency Preparedness (OASPHEP)” within the Office of the Secretary. OASPHEP will be headed by an Assistant Secretary for Public Health Emergency Preparedness (ASPHEP) as authorized under the Public Health Security and Bioterrorism Preparedness and Response Act of 2002. This reorganization will transfer the Office of Emergency Preparedness (ACK), Office of Public Health and Science, to OASPHEP, and rename the Office of Emergency Preparedness as the Office of Emergency Response. Further, this reorganization will transfer the Office of Public Health Preparedness from the Immediate Office of the Secretary to OASPHEP and rename it as the Office of BioDefense, and will place the Secretary's Emergency Operations Center in OASPHEP.

The changes, which will among other things, centralize related preparedness and response activities, are as follows:

I. Under Part A, Chapter AC, “Office of Public Health and Science,” make the following changes:

A. Under Section AC.10 Organization, delete the following: “I. Office of Emergency Preparedness.”

B. Under Section AC.20 Functions, delete paragraph, “I. Office of Emergency Preparedness (ACK),” in its entirety.

II. Under Part A, Office of the Secretary, make the following changes:

A. Under Chapter AA, delete Chapter AAB, the “Office of Public Health Preparedness,” in its entirety.

B. Establish a new Chapter AN, “Office of the Assistant Secretary for Public Health Emergency Preparedness (OASPHEP)” to read as follows:

Office of the Assistant Secretary for Public Health Emergency Preparedness (AN)

AN.00 Mission

AN.10 Organization

AN.20 Functions

Section AN.00 Mission. On behalf of the Secretary, the Office of the Assistant Secretary for Public Health Emergency Preparedness (OASPHEP) directs and coordinates HHS-wide efforts with respect to preparedness for and response to bioterrorism and other public health emergencies. OASPHEP will direct the National Disaster Medical System (NDMS) and any other emergency response activities within the Department of Health and Human Services that are related to bioterrorism and other public health emergencies. OASPHEP is responsible for ensuring a “One-Department” approach to developing such preparedness and response capabilities and directs and coordinates relevant activities of the OPDIVs.

Section AN.10 Organization: The Office of the Assistant Secretary for Public Health Emergency Preparedness (OASPHEP) is headed by an Assistant Secretary for Public Health Emergency Preparedness (ASPHEP), who reports directly to the Secretary, and includes the following components:

• Immediate Office of the ASPHEP (ANA)

• Office of BioDefense (ANB)

• Office of Emergency Response (ANC)

• Secretary's Emergency Operations Center (ANE)

Section AN.20 Functions

1. Immediate Office of the Assistant Secretary for Public Health Emergency Preparedness (ANA). The Immediate Office of the ASPHEP provides executive direction to OASPHEP components. The ASPHEP is the principal advisor to the Secretary on matters relating to bioterriorism and other public health emergencies, and for coordinating interagency interfaces between HHS, other Departments, agencies, offices of the United States, State and local entities with responsibility for emergency preparedness, and directing activities relating to protecting the civilian population from acts of bioterrorism and other public health emergencies. The ASPHEP provides the necessary leadership and coordinates activities for emergency preparedness matters internal to the Office of the Secretary's components and represents the DHHS in working closely with the Federal Emergency Management Agency and other Federal departments and agencies. OASPHEP acts as the lead Federal agency for Emergency Support Function #8 within the Federal Response Plan.

2. Office of BioDefense (ANB). The Office of BioDefense (OB) is headed by a Director, who reports to the ASPHEP and supports his/her roles as the Secretary's principal advisor on matters relating to bioterrorism and public health emergencies, the Department's principal liaison with the Office of Homeland Security; and the principal representative of the Department to other Federal agencies and the private sector in all matters related to bioterrorism, and other public health emergencies. On behalf of the ASPHEP, OB directs and coordinates HHS Operating and Staff Divisions implementation of a comprehensive HHS strategy to protect the civilian population from acts of bioterrorism and other public health emergencies. In carrying out these responsibilities, the OB directs and coordinates the OPDIVs and STAFFDIVs to ensure the adequacy of HHS strategy for preparing, preventing, responding to, and recovering from acts of bioterrorism and other public health emergencies. The OB develops national plans and programs and executes necessary actions to ensure that HHS components are prepared to perform essential functions during major disasters.

3. Office of Emergency Response (ANC). The Office of Emergency Response (OER) is headed by a Director, who reports to the ASPHEP and serves as the principal advisor to the ASPHEP for emergency actions. OER provides staff support to the ASPHEP in the accomplishment of emergency preparedness responsibilities. In support of the ASPHEP, OER maintains the operational readiness required for timely and effective responses to Federal, State, and local government requests for social services, health and medical assistance following major disasters or terrorist incidents.

a. The Division of Program Development (ANC1). The Division of Program Development (DPD) is responsible for developing planning and implementation of processes to improve local response capabilities and the integration of national and local response resources. A key function of DPD is the development of Metropolitan Medical Response Systems. DPD also supports the Director of OER and the ASPHEP in coordinating activities with the Centers for Disease Control and Prevention, Agency for Toxic Substances and Disease Registry, and the Food and Drug Administration and other OPDIVs to develop technical support systems to deal with the consequences of Weapons of Mass Destruction (WMD) terrorist events.

b. The Division of Emergency Readiness and Operations (ANC2). The Division of Emergency Readiness and Operations (DERO) is responsible for improving the range of emergency response capabilities and for assuring emergency response readiness. To accomplish these tasks, DERO supports the interdepartmental National Disaster Medical System (NDMS) Senior Policy Group, Directorate, and Directorate Staff; coordinates the NDMS Disaster Medical Assistance Teams (DMATs) and provides administrative support to DMAT personnel; manages the Rockville Emergency Operations Center during emergencies; develops national WMD response capable DMATs; improves the communications infrastructure to support DMAT deployments; works with the Department of Veterans Affairs to assure appropriate pharmaceutical availability, especially for WMD incidents; and establishes Medical Support Units at the site of emergencies.

c. The Division of Administration and Support (ANC3). The Division of Administration and Support (DAS) is responsible for OER budget execution and formulation, personnel and procurement actions, as well as other administrative activities. To accomplish these tasks, DAS works with the OASPHEP Operations Officer, the Office of the Secretary Executive Office (OSEO) and OER Division Directors to develop solutions to administrative related problems and to develop more effective and efficient administrative support for accomplishing OER activities. DAS also provides staff support for the OASPHEP Operations Officer in coordinating cross-cutting activities, such as, the management of Regional Emergency Coordinator Work Plans and Regional Advice of Allowance.

4. Secretary's Emergency Operations Center (AND). The Secretary's Emergency Operations Center (SEOC) is the focal point of a secure command, control, and communications system to support the HHS Secretary and overall needs of the Department in the prevention, response and mitigation activities during major national security mobilizations such as a bioterrorism event. The SEOC ensures that all HHS emergency operations centers, emergency response teams, and other critical emergency personnel located throughout HHS are linked to the Secretary.

III. Continuation of Policy: Except as inconsistent with this reorganization, all statements of policy and interpretations with respect to the Office of Public Health Preparedness (AAB) and the Office of Emergency Preparedness (ACK) Office of the Secretary, heretofore issued and in effect prior to the date of this reorganization are continued to full force and effect.

IV. Delegations of Authority: All delegations and redelegations of authority made to officials and employees of affected organizational components will continue in them or their successors pending further redelegation, provided they are consistent with this reorganization.

V. Funds, Personnel and Equipment: Transfer of organizations and functions affected by this reorganization shall be accompanied in each instance by direct and support funds, positions, personnel, records, equipment, supplies and other resources.

Dated: July 22, 2002.
Tommy G. Thompson,
Secretary.

[FR Doc. 02-19006 Filed 7-25-02; 8:45 am]

BILLING CODE 4150-03-P